DEPARTMENT OF AGRICULTURE

Forest Service

Lake Tahoe Basin Federal Advisory Committee

AGENCY: Forest Service, USDA.

ACTION: Notice of Intent to Re-establish the Lake Tahoe Basin Federal Advisory Committee call for nominations.

SUMMARY: The Secretary of Agriculture (Secretary) intends to re-establish the charter for the Lake Tahoe Basin Federal Advisory Committee (Committee). The purpose of the Committee is to provide advice to the Secretary and to the Federal Interagency Partnership on how the Partnership can best fulfill its duties pursuant to Executive Order 13057 to protect the extraordinary natural, recreational, and ecological resources in the Lake Tahoe Region. The Secretary has determined that the work of the Committee is in the public interest and relevant to the duties of the Department of Agriculture. Therefore, the Secretary continuously seeks nominations to fill vacancies on the Committee. Additional information concerning the Committee can be found by visiting the Committee's Web site at: http://www.fs.usda.gov/goto/ltbmu/LTFAC.

DATES: Nominations must be received on or before November 23, 2015. Nominations must contain a completed application packet that includes the nominee's name, resume, and completed Form AD-755, Advisory Committee or Research and Promotion Background Information. The Form AD-755 may be obtained from the Forest Service contact person or from the following Web site: http://www.ocio.usda.gov/forms/doc/AD-755_Master_2012_508%20Ver.pdf. The packages must be sent to the addresses below.

ADDRESSES: Send nominations and applications to Lynn Wright, Acting Partnership/FACA Coordinator, U.S. Department of Agriculture, Forest Service, Lake Tahoe Basin Management Unit, 35 College Drive, South Lake Tahoe, California 96150.

FOR FURTHER INFORMATION CONTACT: Lynn Wright, Acting Partnership/FACA Coordinator, U.S. Department of Agriculture, Forest Service, Lake Tahoe Basin Management Unit, 35 College Drive, South Lake Tahoe, California 96150, or by phone at 530-543-2627, or by email at hwright01@fs.fed.us. Individuals who use telecommunications devices or the deaf (TDD) may call the Federal Information Relay Service (FIRS) at 1-800-877-8339 between 8:00 a.m. and 8:00 p.m., Eastern Standard Time, Monday through Friday.

SUPPLEMENTARY INFORMATION:

Background

In accordance with the provisions of the Federal Advisory Committee Act, the Secretary of Agriculture intends to re-establish the Committee. The Committee will be a discretionary advisory committee. The Committee will operate under the provisions of FACA and will report to the Secretary of Agriculture through the Chief of the Forest Service.

The Committee provides a critical role in advising the Secretary of Agriculture and the Lake Tahoe Federal Interagency Partnership on coordinating federal programs to achieve the goals of the Lake Tahoe Environmental Improvement Program.

Advisory Council Organization

The Committee charter and membership is renewed every two years. The members will represent a broad array of interests in the Lake Tahoe Basin. The Council will be comprised of not more than 20 members. Two representatives will be selected as members-at-large, and one representative will be selected from each of the following sectors:

1. Gaming

2. Environmental

3. National Environmental

4. Ski resorts

5. North Shore economic/recreation

6. South Shore economic/recreation

7. Resort associations

8. Education

9. Property rights advocates

10. Science and Research

11. California local government

12. Nevada local government

13. Washoe Tribe

14. State of California

15. State of Nevada

16. Tahoe Regional Planning Agency

17. Labor

18. Transportation

Of these members, one will become the Chairperson who is recognized for their ability to lead a group in a fair and focused manner and who has been briefed on the mission of this Committee. The Committee meets twice a year, but may meet as often as necessary to complete its business. The appointment of members to the Committee is made by the Secretary of Agriculture. Any individual or organization may nominate one or more qualified persons to represent the above vacancies on the Committee. Individuals may also nominate themselves. To be considered for membership, nominees must provide:

1. Resume describing qualifications for membership to the Committee;

2. Cover letter with a rationale for serving on the Committee and what they can contribute;

3. Show their past experience in working successfully as part of a coordinating group;

4. Complete Form AD-755, Advisory Committee or Research and Promotion Background Information; and

5. Letters of recommendation are welcome.

All nominations will be vetted by U.S. Department of Agriculture (USDA). A list of qualified applicants from which the Secretary of Agriculture shall appoint to the Committee will be prepared. Applicants are strongly encouraged to submit nominations priority mail via United States Post Office to ensure timely receipt by the USDA. Members of the Committee will serve without compensation, but may be reimbursed for travel expenses while performing duties on behalf of the Committee, subject to approval by the Designated Federal Officer (DFO).

Equal opportunity practices, in accordance with USDA policies shall be followed in all appointments to the Committee. To ensure that the recommendation of the Committee have taken into account the needs of the diverse groups served by the Departments, membership should include, to the extent practicable, individuals with demonstrated ability to represent all racial and ethnic groups, women and men, and persons with disabilities.

Dated: September 29, 2015.
Gregory L. Parham,
Assistant Secretary for Administration.

[FR Doc. 2015-25596 Filed 10-6-15; 8:45 am]

BILLING CODE 3411-15-P